DEPARTMENT OF HOMELAND SECURITY

Federal Emergency Management Agency

44 CFR Part 67

[Docket ID FEMA-2011-0002]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) makes the final determinations listed below for the modified BFEs for each community listed. These modified elevations have been published in newspapers of local circulation and ninety (90) days have elapsed since that publication. The Deputy Federal Insurance and Mitigation Administrator has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Modified | Communities affected
Sharp County, Arkansas, and Incorporated Areas
Docket No.: FEMA-B-1089
Curia Creek | Approximately 1,490 feet downstream of State Highway 230 | + 603 | Unincorporated Areas of Sharp County.
| Just downstream of State Highway 230 | + 608
Lick Fork | Just downstream of Gravel Pit Road | + 595 | Unincorporated Areas of Sharp County.
| Approximately 157 feet downstream of Gravel Pit Road | + 597
Right Prong Otter Creek | Approximately 500 feet upstream of Toshiming Trace | + 491 | Unincorporated Areas of Sharp County.
| Approximately 925 feet downstream of Waketa Drive | + 530
South Big Creek Tributary | Approximately 750 feet downstream of Jackson Spring Road | + 549 | Unincorporated Areas of Sharp County.
| Approximately 600 feet downstream of Levee Road | + 659
* National Geodetic Vertical Datum.
+ North American Vertical Datum.
# Depth in feet above ground.
‸ Mean Sea Level, rounded to the nearest 0.1 meter.
ADDRESSES
Unincorporated Areas of Sharp County
Maps are available for inspection at 718 Ash Flat Drive, Ash Flat, AR 72513.
Butler County, Iowa, and Incorporated Areas
Docket No.: FEMA-B-1097
Beaver Creek | Approximately 1,800 feet downstream of Utica Avenue | + 896 | Unincorporated Areas of Butler County.
| Approximately 1.2 miles upstream of Utica Avenue | + 901
Shell Rock River | Approximately 1.1 miles downstream of Cherry Street | + 899 | Unincorporated Areas of Butler County.
| Approximately 0.9 mile upstream of the dam | + 909
Shell Rock River | At the downstream side of Iowa Northern Railway | + 923 | Unincorporated Areas of Butler County.
| Approximately 1,000 feet upstream of Chicago and North Western Railroad | + 931
Shell Rock River | Approximately 0.7 mile downstream of Traer Street | + 955 | Unincorporated Areas of Butler County.
| Approximately 700 feet upstream of State Highway 14 | + 960
Shell Rock River Overflow Channel 2 | Approximately 900 feet downstream of Main Street | + 955 | Unincorporated Areas of Butler County.
| Approximately 400 feet upstream of Main Street | + 958
* National Geodetic Vertical Datum.
+ North American Vertical Datum.
# Depth in feet above ground.
‸ Mean Sea Level, rounded to the nearest 0.1 meter.
ADDRESSES
Unincorporated Areas of Butler County
Maps are available for inspection at the Butler County Courthouse, 428 6th Street, Allison, IA 50602.
Leake County, Mississippi, and Incorporated Areas
Docket No.: FEMA-B-1108
Pearl River | Approximately 1.0 mile downstream of State Highway 35 | + 341 | City of Carthage.
| Approximately 1.0 mile upstream of State Highway 35 | + 343
Tuscolameta Creek | Approximately 555 feet downstream of State Highway 35 | + 356 | Town of Walnut Grove.
| Approximately 0.5 mile upstream of State Highway 35 | + 357
* National Geodetic Vertical Datum.
+ North American Vertical Datum.
# Depth in feet above ground.
‸ Mean Sea Level, rounded to the nearest 0.1 meter.
ADDRESSES
City of Carthage
Maps are available for inspection at City Hall, 212 West Main Street, Carthage, MS 39051.
Town of Walnut Grove
Maps are available for inspection at the Town Hall, 139 Main Street, Walnut Grove, MS 38189.
Cherokee County, South Carolina, and Incorporated Areas
Docket No.: FEMA-B-1128
Broad River | At the confluence with the Pacolet River | + 437 | Unincorporated Areas of Cherokee County.
| Approximately 2.1 miles upstream of the confluence with Quinton Branch | + 458
Kings Creek | At the confluence with the Broad River | + 458 | Unincorporated Areas of Cherokee County.
| Approximately 0.9 mile upstream of Old Chester Road | + 493
* National Geodetic Vertical Datum.
+ North American Vertical Datum.
# Depth in feet above ground.
‸ Mean Sea Level, rounded to the nearest 0.1 meter.
ADDRESSES
Unincorporated Areas of Cherokee County
Maps are available for inspection at the Cherokee County Administration Office, 210 North Limestone Street, Gaffney, SC 29340.
Chester County, South Carolina, and Incorporated Areas
Docket No.: FEMA-B-1127
Broad River (Downstream) | Approximately 1.8 miles downstream of State Highway 72 | + 314 | Unincorporated Areas of Chester County.
| Approximately 2.0 miles upstream of State Highway 72 | + 327
Broad River (Upstream) | Approximately 1.6 miles downstream of State Highway 49 | + 363 | Unincorporated Areas of Chester County.
| Approximately 2.2 miles upstream of State Highway 49 | + 417
Dry Fork Creek | Approximately 68 feet upstream of the confluence with the Sandy River | + 397 | City of Chester, Unincorporated Areas of Chester County.
| Approximately 1.3 miles upstream of U.S. Route 321 | + 545
Fishing Creek | Approximately 1,219 feet downstream of U.S. Route 21 | + 355 | Town of Great Falls, Unincorporated Areas of Chester County.
| Approximately 757 feet upstream of Humpback Bridge Road | + 484
Rocky Creek | Approximately 273 feet downstream of Brooklyn Road | + 297 | Town of Great Falls, Unincorporated Areas of Chester County.
| Approximately 0.5 mile upstream of the confluence with Turkey Creek | + 317
Tanyard Branch | At the confluence with Dry Fork Creek | + 412 | Unincorporated Areas of Chester County.
| Approximately 0.7 mile upstream of Hawthorne Road | + 436
* National Geodetic Vertical Datum.
+ North American Vertical Datum.
# Depth in feet above ground.
‸ Mean Sea Level, rounded to the nearest 0.1 meter.
ADDRESSES
City of Chester
Maps are available for inspection at City Hall, 100 West End Street, Chester, SC 29706.
Town of Great Falls
Maps are available for inspection at the Town Hall, 810 Dearborn Street, Great Falls, SC 29055.
Unincorporated Areas of Chester County
Maps are available for inspection at the Chester County Government Complex, 1476 J.A. Cochran Bypass, Suite 63, Chester, SC 29706.
Chesterfield County, South Carolina, and Incorporated Areas
Docket No.: FEMA-B-1127
Bear Creek | At the confluence with Thompson Creek | + 114 | Unincorporated Areas of Chesterfield County.
| Approximately 0.9 mile upstream of Evans Mill Road | + 130
Beaver Creek | At the confluence with Thompson Creek | + 105 | Unincorporated Areas of Chesterfield County.
| Approximately 1,960 feet downstream of Teals Mill Road | + 116
Great Pee Dee River | Approximately 200 feet downstream of the confluence with Thompson Creek | + 93 | Town of Cheraw, Unincorporated Areas of Chesterfield County.
| At the State of North Carolina boundary | + 110
Huckleberry Branch | At the confluence with the Great Pee Dee River | + 98 | Town of Cheraw, Unincorporated Areas of Chesterfield County.
| Approximately 474 feet upstream of Chesterfield Highway | + 189
Huckleberry Branch Tributary | At the confluence with Huckleberry Branch | + 133 | Town of Cheraw, Unincorporated Areas of Chesterfield County.
| Approximately 831 feet upstream of Chesterfield Highway | + 175
Indian Creek | At the confluence with Thompson Creek | + 122 | Town of Chesterfield, Unincorporated Areas of Chesterfield County.
| Approximately 1,743 feet upstream of Avondale Road | + 176
Juniper Creek | At the confluence with Thompson Creek | + 93 | Town of Patrick, Unincorporated Areas of Chesterfield County.
| Approximately 2.3 miles upstream of U.S. Route 1 | + 212
Juniper Creek Tributary 1 | At the confluence with Juniper Creek | + 117 | Unincorporated Areas of Chesterfield County.
| Approximately 1,177 feet upstream of McBride Road | + 168
Juniper Creek Tributary 2 | At the confluence with Juniper Creek | + 128 | Unincorporated Areas of Chesterfield County.
| Approximately 0.6 mile upstream of RD TT 18 | + 198
Little Juniper Creek | At the confluence with Juniper Creek | + 131 | Unincorporated Areas of Chesterfield County.
| Approximately 1.3 miles upstream of U.S. Route 1 | + 160
Mill Creek | At the confluence with Juniper Creek | + 158 | Unincorporated Areas of Chesterfield County.
| Approximately 0.9 mile upstream of Wilkes Pond Road | + 189
Thompson Creek | At the confluence with the Great Pee Dee River | + 93 | Town of Chesterfield, Unincorporated Areas of Chesterfield County.
| Approximately 1.4 miles upstream of North Page Street | + 174
Wilson Branch | At the confluence with Huckleberry Branch | + 99 | Town of Cheraw.
| Approximately 1,767 feet upstream of Jersey Street | + 157
Wilson Branch Tributary | At the confluence with Wilson Branch | + 113 | Town of Cheraw, Unincorporated Areas of Chesterfield County.
| Approximately 1,686 feet upstream of Jersey Street | + 152
* National Geodetic Vertical Datum.
+ North American Vertical Datum.
# Depth in feet above ground.
‸ Mean Sea Level, rounded to the nearest 0.1 meter.
ADDRESSES
Town of Cheraw
Maps are available for inspection at the Town Hall, 200 Market Street, Cheraw, SC 29520.
Town of Chesterfield
Maps are available for inspection at the Town Hall, 112 East Main Street, Chesterfield, SC 29709.
Town of Patrick
Maps are available for inspection at the Town Hall, 129 Turnage Street, Patrick, SC 29584.
Unincorporated Areas of Chesterfield County
Maps are available for inspection at the Chesterfield County Courthouse, 200 West Main Street, Chesterfield, SC 29709.
Newberry County, South Carolina, and Incorporated Areas
Docket No.: FEMA-B-1127
Duncans Creek | Approximately 1,245 feet upstream of the confluence with the Enoree River | + 325 | Town of Whitmire, Unincorporated Areas of Newberry County.
| Approximately 1,323 feet upstream of the confluence with South Fork Duncan Creek | + 360
Lake Greenwood | Entire shoreline | + 442 | Unincorporated Areas of Newberry County.
Lake Murray | Approximately 0.9 mile upstream of Wheeland Hool Road | + 362 | Unincorporated Areas of Newberry County.
| Approximately 30 feet upstream of State Highway 391 | + 362
Mud Creek | Approximately 0.4 mile downstream of New Hope Road | + 279 | Unincorporated Areas of Newberry County.
| Approximately 1.4 miles upstream of U.S. Route 176 | + 371
Scotts Creek | At Glenn Road | + 475 | City of Newberry, Unincorporated Areas of Newberry County.
| Approximately 288 feet upstream of Pender Ridge Road | + 509
Timothy Creek | Approximately 251 feet downstream of Cannon Swamp Road | + 386 | Unincorporated Areas of Newberry County.
| Approximately 1.6 miles upstream of Clara Brown Road | + 498
* National Geodetic Vertical Datum.
+ North American Vertical Datum.
# Depth in feet above ground.
‸ Mean Sea Level, rounded to the nearest 0.1 meter.
ADDRESSES
City of Newberry
Maps are available for inspection at City Hall, 1330 College Street, Newberry, SC 29108.
Town of Whitmire
Maps are available for inspection at the Town Hall, 210 Main Street, Whitmire, SC 29178.
Unincorporated Areas of Newberry County
Maps are available for inspection at the Newberry County Courthouse, 1223 College Street, Newberry, SC 29108.
Meade County, South Dakota, and Incorporated Areas
Docket No.: FEMA-B-1089
Bear Butte Creek | Approximately 3,000 feet downstream of Blanche Street | + 3341 | Unincorporated Areas of Meade County.
| Approximately 1,632 feet downstream of Blanche Street | + 3351
| Approximately 675 feet upstream of 14th Street | + 3473
| Approximately 630 feet upstream of 13th Street | + 3480
Blackhawk Creek | Approximately 20 feet downstream of Deadwood Avenue North | + 3382 | Unincorporated Areas of Meade County.
| Approximately 3,800 feet upstream of Anderson Road | + 3754
Cook Canyon Creek | Approximately 2,550 feet upstream of Short Track Road | + 3593 | Unincorporated Areas of Meade County.
| Approximately 450 feet upstream of I-90 | + 3596
Deadman Gulch | Approximately 180 feet upstream of Ballpark Road | + 3506 | Unincorporated Areas of Meade County.
| Approximately 250 feet downstream of I-90 West | + 3530
| Approximately 50 feet upstream of Elk Road | + 3604
| Approximately 100 feet upstream of Elk Road | + 3808
Dolan Creek | Approximately 500 feet upstream of West Farley Street | + 3452 | Unincorporated Areas of Meade County.
| Approximately 1,250 feet downstream of I-90 | + 3466
| Approximately 80 feet upstream of Pine Glenn Drive | + 3579
| Approximately 160 feet upstream of Glenn Ridge Court | + 3615
East Vanocker Creek | Approximately 50 feet downstream of Chicago and Northwestern Railroad | + 3555 | Unincorporated Areas of Meade County.
| Approximately 1,660 feet upstream of Chicago and Northwestern Railroad | + 3564
Middle Cook Canyon Creek | Approximately 1,400 feet upstream of Short Track Road | + 3562 | Unincorporated Areas of Meade County.
| Approximately 1,950 feet upstream of Short Track Road | + 3596
South Cook Canyon Creek | Approximately 1,050 feet upstream of Short Track Road | + 3552 | Unincorporated Areas of Meade County.
| Approximately 1,835 feet upstream of Short Track Road | + 3582
South Dolan Creek | Approximately 2,050 feet upstream of Dolan Creek Road | + 3572 | Unincorporated Areas of Meade County.
| Approximately 2,400 feet upstream of Dolan Creek Road | + 3575
Vanocker Creek | Approximately 900 feet downstream of Harmon Street | + 3462 | Unincorporated Areas of Meade County.
| Approximately 125 feet downstream of Harmon Street | + 3472
| Approximately 30 feet upstream of Vanocker Canyon Road | + 3596
| Approximately 200 feet upstream of Vanocker Canyon Road | + 3597
* National Geodetic Vertical Datum.
+ North American Vertical Datum.
# Depth in feet above ground.
‸ Mean Sea Level, rounded to the nearest 0.1 meter.
ADDRESSES
Unincorporated Areas of Meade County
Maps are available for inspection at the Meade County Courthouse, 1425 Sherman Street, Sturgis, SD 57785.
Limestone County, Texas, and Incorporated Areas
Docket No.: FEMA-B-1112
Salt River | Just upstream of State Highway 14 | + 473 | Unincorporated Areas of Limestone County.
| Approximately 0.66 mile upstream of State Highway 14 | + 483
* National Geodetic Vertical Datum.
+ North American Vertical Datum.
# Depth in feet above ground.
‸ Mean Sea Level, rounded to the nearest 0.1 meter.
ADDRESSES
Unincorporated Areas of Limestone County
Maps are available for inspection at the Limestone County Courthouse, 200 West State Street, Groesbeck, TX 76642.
Polk County, Wisconsin, and Incorporated Areas
Docket No.: FEMA-B-1060 & FEMA-B-1087
Balsam Lake | Entire shoreline | + 1135 | Unincorporated Areas of Polk County, Village of Balsam Lake.
Big Butternut Lake | Entire shoreline | + 1216 | Unincorporated Areas of Polk County, Village of Luck.
Clam Falls Flowage | Entire shoreline | + 1030 | Unincorporated Areas of Polk County.
Largon Lake | Entire shoreline | + 1247 | Unincorporated Areas of Polk County.
Little Butternut Lake | Entire shoreline | + 1210 | Unincorporated Areas of Polk County, Village of Luck.
Sand Lake | Entire shoreline | + 1124 | Unincorporated Areas of Polk County.
White Ash Lake | Entire shoreline | + 1123 | Unincorporated Areas of Polk County.
* National Geodetic Vertical Datum.
+ North American Vertical Datum.
# Depth in feet above ground.
‸ Mean Sea Level, rounded to the nearest 0.1 meter.
ADDRESSES
Unincorporated Areas of Polk County
Maps are available for inspection at the Polk County Government Center, 100 Polk County Plaza, Balsam Lake, WI 54810.
Village of Balsam Lake
Maps are available for inspection at the Village Hall, 404 Main Street, Balsam Lake, WI 54810.
Village of Luck
Maps are available for inspection at 401 Main Street, Luck, WI 54853.
Fremont County, Wyoming, and Incorporated Areas
Docket No.: FEMA-B-1104
Big (Middle) Popo Agie River | Approximately 80 feet upstream of the confluence with the North Popo Agie River | + 5239 | City of Lander, Unincorporated Areas of Fremont County.
| Approximately 6,030 feet upstream of Field Station Road | + 5978
Dickinson Creek | Approximately 240 feet downstream of Fremont Street | + 5398 | City of Lander, Unincorporated Areas of Fremont County.
| Approximately 3,360 feet upstream of Fremont Street | + 5438
Fremont Street Split | Approximately 160 feet downstream of 3rd Street | + 5389 | City of Lander.
| Approximately 380 feet upstream of 4th Street | + 5402
* National Geodetic Vertical Datum.
+ North American Vertical Datum.
# Depth in feet above ground.
‸ Mean Sea Level, rounded to the nearest 0.1 meter.
ADDRESSES
City of Lander
Maps are available for inspection at 240 Lincoln Street, Lander, WY 82520.
Unincorporated Areas of Fremont County
Maps are available for inspection at 450 North 2nd Street, Room 360, Lander, WY 82520.

(Catalog of Federal Domestic Assistance No. 97.022, “Flood Insurance.”)

Dated: July 29, 2011.
Sandra K. Knight,
Deputy Federal Insurance and Mitigation Administrator, Mitigation, Department of Homeland Security, Federal Emergency Management Agency.

[FR Doc. 2011-20959 Filed 8-16-11; 8:45 am]

BILLING CODE 9110-12-P